DEPARTMENT OF ENERGY

Notice of Orders Issued Under Section 3 of the Natural Gas Act During October 2017

| FE Docket Nos.
UNITED ENERGY TRADING CANADA, ULC | 17-126-NG
CANNAT ENERGY INC | 17-129-NG
DTE ENERGY TRADING, INC | 17-122-NG
DIRECT ENERGY MARKETING INC | 17-123-NG
VERMONT GAS SYSTEMS, INC | 17-127-NG
CANADA IMPERIAL OIL LIMITED | 17-124-NG
GAZ METRO GNL, S.E.C | 17-128-LNG
AUX SABLE CANADA | 17-133-NG
ROCHESTER GAS AND ELECTRIC CORPORATION | 17-132-NG
ENBRIDGE GAS DISTRIBUTION INC | 17-130-NG
SUNCOR ENERGY MARKETING INC | 17-131-NG
PAA NATURAL GAS CANADA ULC | 16-78-NG
IRVING OILS TERMINALS OPERATIONS LLC | 17-134-NG
CITY OF PORTAL, INCORPORATED | 17-121-NG
EDF TRADING NORTH AMERICA, LLC | 17-119-NG
SEVEN STRATEGIC CONSULTING LLC | 17-112-NG
GREENFIELD ENERGY CENTRE LP | 17-125-NG
CONSTELLATION ENERGY GAS CHOICE, LLC | 16-31-NG
IRVING OIL COMMERCIAL GP AND IRVING OIL TERMINALS OPERATIONS LLC (formerly IRVING OIL COMMERCIAL GP AND IRVING OIL TERMINALS OPERATIONS INC.) | 15-165-NG

AGENCY: Office of Fossil Energy, Department of Energy.

ACTION: Notice of orders.

SUMMARY: The Office of Fossil Energy (FE) of the Department of Energy gives notice that during October 2017, it issued orders granting authority to import and export natural gas, to import and export liquefied natural gas (LNG), to amend long-term authority, and to vacate authority. These orders are summarized in the attached appendix and may be found on the FE Web site at http://energy.gov/fe/listing-doefe-authorizationsorders-issued-2017.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on November 21, 2017.
Robert J. Smith,
Deputy Assistant Secretary for Oil and Natural Gas (Acting).

Appendix

DOE/FE Orders Granting Import/Export Authorizations
4100 | 10/10/17 | 17-126-NG | United Energy Trading Canada, ULC | Order 4100 granting blanket authority to import/export natural gas from/to Canada.
4101 | 10/10/17 | 17-129-NG | Cannat Energy Inc | Order 4101 granting blanket authority to import/export natural gas from/to Canada, and vacating prior authorization.
4102 | 10/10/17 | 17-122-NG | DTE Energy Trading, Inc | Order 4102 granting blanket authority to import/export natural gas from/to Canada.
4103 | 10/10/17 | 17-123-NG | Direct Energy Marketing Inc | Order 4103 granting blanket authority to import/export natural gas from/to Canada.
4104 | 10/10/17 | 17-127-NG | Vermont Gas Systems, Inc | Order 4104 granting blanket authority to import natural gas from Canada.
4105 | 10/18/17 | 17-124-NG | Canada Imperial Oil Limited | Order 4105 granting blanket authority to import/export natural gas from/to Canada.
4106 | 10/18/17 | 17-128-LNG | Gaz Metro GNL, S.E.C | Order 4106 granting blanket authority to import LNG from Canada by truck.
4107 | 10/18/17 | 17-133-NG | Aux Sable Canada | Order 4107 granting blanket authority to import natural gas from Canada.
4108 | 10/18/17 | 17-132-NG | Rochester Gas and Electric Corporation | Order 4108 granting blanket authority to import/export natural gas from/to Canada.
4109 | 10/18/17 | 17-130-NG | Enbridge Gas Distribution Inc | Order 4109 granting blanket authority to export natural gas to Canada.
4110 | 10/18/17 | 17-131-NG | Suncor Energy Marketing Inc | Order 4096 granting blanket authority to import/export natural gas from/to Canada.
3858-A | 10/18/17 | 16-78-NG | PAA Natural Gas Canada ULC | Order 3858-A vacating blanket authority to import/export natural gas from/to Canada.
4111 | 10/24/17 | 17-134-NG | Irving Oil Terminals Operations LLC | Order 4111 granting blanket authority to import/export natural gas from/to Canada, and vacating prior authority.
4099 | 10/24/17 | 17-121-NG | City of Portal, Incorporated | Order 4099 granting blanket authority to import natural gas from Canada.
4112 | 10/27/17 | 17-119-NG | EDF Trading North America, LLC | Order 4112 granting blanket authority to import/export natural gas from/to Canada/Mexico, to import/export LNG from/to Canada/Mexico by truck, to export LNG to Canada/Mexico by vessel, and to import LNG from various international sources by vessel.
4113 | 10/27/17 | 17-112-NG | Seven Strategic Consulting LLC | Order 4113 granting blanket authority to import/export natural gas from/to Canada/Mexico.
4114 | 10/27/17 | 17-125-NG | Greenfield Energy Centre LP | Order 4114 granting blanket authority to import/export natural gas from/to Canada/Mexico.
3791-A | 10/27/17 | 16-13-NG | Constellation Energy Gas Choice, LLC | Order 3791-A vacating blanket authority to import natural gas from Canada.
3765-A | 10/27/17 | 15-165-NG | Irving Commercial GP and Irving Oil Terminals Operations LLC (formerly Irving Commercial GP and Irving Oil Terminals Operations Inc.) | Order 3765-A amending long-term authority to import/export natural gas from/to Canada.

[FR Doc. 2017-25634 Filed 11-27-17; 8:45 am]

BILLING CODE 6450-01-P